DEPARTMENT OF HOMELAND SECURITY

Coast Guard

33 CFR Part 165

[CGD07-03-127]

RIN 1625-AA11

Regulated Navigation Areas; Charleston Harbor, Cooper River, South Carolina

AGENCY: Coast Guard, DHS.

ACTION: Notice of proposed rule making.

SUMMARY: The Coast Guard proposes to create regulated navigation areas for waters in the Charleston Harbor under the Highway 17 bridges and in the Cooper River under the Don Holt I-526 bridge. These regulated navigation areas are needed for national security reasons to help ensure public safety and prevent sabotage or terrorist acts aimed at these bridges that cross the main shipping channel and link the city and port of Charleston with the mainland. Vessels would be prohibited from anchoring, mooring, or loitering within these areas, unless specifically authorized by the Captain of the Port, Charleston, South Carolina or his designated representative.

DATES: Comments and related material must reach the Coast Guard on or before October 7, 2003.

ADDRESSES: You may mail comments and related material to Coast Guard Marine Safety Office Charleston, 196 Tradd Street, Charleston, South Carolina 29401. Coast Guard Marine Safety Office Charleston maintains the public docket for this rulemaking. Comments and material received from the public, as well as documents indicated in this preamble as being available in the docket, will become part of this docket and will be available for inspection or copying at Marine Safety Office Charleston, between 7:30 a.m. and 4 p.m., Monday through Friday, except Federal holidays.

FOR FURTHER INFORMATION CONTACT: Lieutenant Kevin D. Floyd, Coast Guard Marine Safety Office Charleston, at (843) 720-3272.

SUPPLEMENTARY INFORMATION:

Request for Comments

We encourage you to participate in this rulemaking by submitting comments and related material. If you do so, please include your name and address, identify the docket number for this rulemaking [CGD07-03-127], indicate the specific section of this document to which each comment applies, and give the reason for each comment. Please submit all comments and related material in an unbound format, no larger than 8½ by 11 inches, suitable for copying. If you would like to know your submission reached us, please enclose a stamped, self-addressed postcard or envelope. We will consider all comments and material received during the comment period. We may change this proposed rule in view of them.

Public Meeting

We do not plan to hold a public meeting. However, you may submit a request for a meeting by writing to the Coast Guard Marine Safety Office Charleston at the address under ADDRESSES explaining why a meeting would be beneficial. If we determine that a public meeting will aid this rulemaking, a meeting will be held at a time and place announced by separate notice in the Federal Register.

Background and Purpose

Based on the continuing threat of terrorism against the United States, and in light of the September 11, 2001, terrorist attacks on the World Trade Center in New York and the Pentagon in Arlington, Virginia, there is an increased risk that terrorist action that would adversely affect the Port of Charleston could be initiated against bridges over the regulated navigation areas by persons on vessels or otherwise in close proximity to these bridges. If a bridge were damaged or destroyed, the Port of Charleston would be isolated from access to the sea, crippling the local economy and negatively impacting national security. These regulated navigation areas would help to protect the safety of life and property on the navigable waters, prevent potential terrorist threats aimed at the bridges crossing the main shipping channels in the Port of Charleston, South Carolina, and ensure continued unrestricted access to the sea from the Port.

Discussion of Proposed Rule

The proposed rule would establish regulated navigation areas for the waters in the Charleston Harbor under the Highway 17 bridges and in the Cooper River under the Don Holt I-526 bridge. These regulated navigation areas are needed for national security reasons to promote public safety and help to prevent sabotage or terrorist acts against bridges in these ports. Vessels would be prohibited from anchoring, mooring, or loitering within these areas, unless specifically authorized by the Captain of the Port, Charleston, South Carolina or his designated representative.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). The Coast Guard expects the economic impact of this proposed rule to be so minimal that a full Regulatory Evaluation under the regulatory policies and procedures of DHS is unnecessary, because these zones encompass only a small segment of the waterway, and vessels are allowed to transit through these zones. This proposed rule would simply prohibit vessels from mooring, anchoring, or loitering within these zones unless specifically authorized by the Captain of the Port.

Small Entities

Under the Regulatory Flexibility Act (5 U.S.C. 601-612), the Coast Guard must consider whether this rule would have a significant economic effect on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. The proposed rule encompasses very limited geographic areas encompassed by the regulated navigation areas and does not restrict the movement or routine operation of commercial or recreational vessels through the Port of Charleston. Additionally, persons may request permission from the Coast Guard Captain of the Port of Charleston to deviate from these regulations.

If you think that your business, organization, or governmental jurisdiction qualifies as a small entity and that this rule would have a significant economic impact on it, please submit a comment (see ADDRESSES) explaining why you think it qualifies and how and to what degree this rule would affect it economically.

Assistance for Small Entities

Under section 213(a) of the Small Business Regulatory Enforcement Fairness Act of 1996 (Public Law 104-121), we want to assist small entities in understanding this proposed rule so that they can better evaluate its proposed effects on them and participate in the rulemaking. If the proposed rule would affect your small business, organization, or governmental jurisdiction and you have questions concerning its provisions or options for compliance, please contact Lieutenant Kevin D. Floyd, Marine Safety Office Charleston, at (843) 720-3272.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector, of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this proposed rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation. A “Categorical Exclusion Determination” is available in the docket where indicated under ADDRESSES.

List of Subjects 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

1. Add § 165.715 to read as follows:

§ 165. 715 Regulated Navigation Areas; Charleston Harbor, Cooper River, S.C.

(a) Location—(1) Highway 17 bridges. A regulated navigation area is established for the waters around the Highway 17 bridges, to encompass all waters of the Cooper River within a line connecting the following points: 32° 48.23′N, 079° 55.3′W; 32° 48.1′N, 079° 54.35′W; 32° 48.34′N, 079° 55.25′W; 32° 48.2′N, 079° 54.35′W, then back to the point of origin.

(2) Interstate 526 bridge (Don Holt bridge). Another fixed regulated navigation area is established for the waters around the Interstate 526 bridge spans (Don Holt bridge) in Charleston Harbor and on the Cooper River encompassing all waters within a line connecting the following points: 32° 53.49′N, 079° 58.05′W; 32° 53.42′N, 079° 57.48′W; 32° 53.53′N, 079° 58.05′W; 32° 53.47′N, 079° 57.47′W, then back to the point of origin. All coordinates reference 1983 North American Datum (NAD 83).

(b) Regulations. (1) In accordance with the general regulations in § 165.33 of this part, vessels are allowed to transit through these regulated navigation areas but are prohibited from mooring, anchoring, or loitering within these zones unless specifically authorized by the Captain of the Port.

(2) All vessel operators shall comply with the instructions of the Captain of the Port or designated on-scene Coast Guard patrol personnel. On-scene Coast Guard patrol personnel include commissioned, warrant, and petty officers of the Coast Guard.

Dated: July 29, 2003.
F.M. Rosa,
Captain, U.S. Coast Guard, Acting Commander, Seventh Coast Guard District.

[FR Doc. 03-20196 Filed 8-7-03; 8:45 am]

BILLING CODE 4910-15-P